DEPARTMENT OF THE INTERIOR

National Park Service

Cape Cod National Seashore; South Wellfleet, MA; Cape Cod National Seashore Advisory Commission

ACTION: Two Hundredth Seventy-First Notice of Meeting.

SUMMARY: Notice is hereby given in accordance with the Federal Advisory Committee Act (Pub. L. 92-463, 86 Stat. 770, 5 U.S.C. App 1, Section 10) of a meeting of the Cape Cod National Seashore Advisory Commission.

DATES: The meeting of the Cape Cod National Seashore Advisory Commission will be held on January 11, 2010 at 1 p.m.

ADDRESSES: The Commission members will meet in the meeting room at Headquarters, 99 Marconi Station, Wellfleet, Massachusetts.

SUPPLEMENTARY INFORMATION: The Commission was reestablished pursuant to Public Law 87-126 as amended by Public Law 105-280. The purpose of the Commission is to consult with the Secretary of the Interior, or his designee, with respect to matters relating to the development of Cape Cod National Seashore, and with respect to carrying out the provisions of sections 4 and 5 of the Act establishing the Seashore.

The regular business meeting is being held to discuss the following:

1. Adoption of Agenda.

2. Approval of Minutes of Previous Meeting (November 16, 2009).

3. Reports of Officers.

4. Reports of Subcommittees.

5. Superintendent's Report.

• Update on Dune Shacks.

• Improved Properties/Town Bylaws.

• Herring River Wetland Restoration.

• Wind Turbines/Cell Towers.

• Highlands Center Update.

• Alternate Transportation funding.

• Other construction projects.

• Land Protection.

6. Old Business.

7. New Business—Ocean initiatives.

8. Date and agenda for next meeting.

9. Public comment and

10. Adjournment.

The meeting is open to the public. It is expected that 15 persons will be able to attend the meeting in addition to Commission members.

Interested persons may make oral/written presentations to the Commission during the business meeting or file written statements. Such requests should be made to the park superintendent prior to the meeting.

FOR FURTHER INFORMATION CONTACT: Further information concerning the meeting may be obtained from the Superintendent, Cape Cod National Seashore, 99 Marconi Site Road, Wellfleet, MA 02667.

Dated: November 30, 2009.
George E. Price, Jr.,
Superintendent.

[FR Doc. E9-29310 Filed 12-8-09; 8:45 am]

BILLING CODE 4310-WV-P